DEPARTMENT OF HEALTH AND HUMAN SERVICES

Administration for Children and Families

Submission for OMB Review; Temporary Assistance for Needy Families (TANF) Data Reporting for Work Participation (OMB #0970-0338)

AGENCY: Office of Family Assistance, Administration for Children and Families, Health and Human Services (HHS).

ACTION: Request for public comment.

SUMMARY: The Administration for Children and Families (ACF) is requesting a 3-year extension of the Temporary Assistance for Needy Families (TANF) Data Reporting for Work Participation (formerly titled the Deficit Reduction Act of 2005 TANF Final Rule; OMB #0970-0338). Information collections include the TANF data verification procedures, the TANF Data Report, the Separate State Program (SSP)—Maintenance of Effort (MOE) Data Report, the Caseload Reduction Documentation Process, and the Reasonable Cause/Corrective Compliance Documentation Process. We are proposing to continue these information collections without change.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: ACF is requesting a 3-year extension of the following information collections: TANF data verification procedures, the TANF Data Report, the SSP-MOE Data Report, the Caseload Reduction Documentation Process, and the Reasonable Cause/Corrective Compliance Documentation Process (OMB #0970-0338). The data and information from these reports and processes are used for program analysis and oversight, including the calculation and administration of the work participation rate and associated penalties. Congress provides Federal funds to operate TANF programs in the states, the District of Columbia, Guam, Puerto Rico, the U.S. Virgin Islands, and for approved federally recognized tribes and Alaskan Native Villages. We are proposing to continue these information collections without change.

Respondents: The 50 states of the United States, the District of Columbia, Guam, Puerto Rico, and the U.S. Virgin Islands.

Annual Burden Estimates
Instrument | Total number of respondents | Annual number of responses per respondent | Average burden hours per response | Total annual burden hours
Preparation and Submission of Data Verification Procedures §§ 261.60—261.63 | 54 | 1 | 640 | 34,560
Caseload Reduction Documentation Process, ACF-202 §§ 261.41 & 261.44 | 54 | 1 | 120 | 6,480
Reasonable Cause/Corrective Compliance Documentation Process §§ 262.4, 262.6, & 262.7; § 261.51 | 54 | 2 | 240 | 25,920
TANF Data Report Part 265 | 54 | 4 | 2,201 | 475,416
SSP-MOE Data Report—Part 265 | 29 | 4 | 714 | 82,824
TANF Sampling and Statistical Methods Manual § 265.5 | 30 | 4 | 48 | 5,760

Estimated Total Annual Burden Hours: 630,960.

Authority: 42 U.S.C. 601, 607, 609, 611, 613, and 1302.

Mary B. Jones,
ACF/OPRE Certifying Officer.

[FR Doc. 2020-19304 Filed 8-28-20; 8:45 am]

BILLING CODE 4184-36-P